DEPARTMENT OF AGRICULTURE

Forest Service

Southwestern Region, Arizona, New Mexico, West Texas and Oklahoma: Proposed Forest Plan Amendment to the Land and Resource Management Plan for Natural Gas Resource Development and Leasing Decision on Jicarilla Ranger District, Carson National Forest, Rio Arriba County, NM; Additional Filings

AGENCY: Forest Service, USDA.

ACTION: Revised notice of intent to prepare an environmental impact statement.

SUMMARY: The USDA Forest Service initially published a Notice of Intent in the Federal Register (67 FR 52706-52709, August 13, 2002) for the Proposed Surface Management of Natural Gas Resource Development Environmental Impact Statement (EIS) project on the Jicarilla Ranger District, Carson National Forest. The Draft EIS (DEIS) for this project was released in October 2003. Based on public comments received on the DEIS, the Carson Forest Supervisor determined there was a need to clarify the Purpose and Need for Action and to modify the Proposed Action. This EIS prepared under this Notice of Intent will replace the DEIS that was previously prepared.

The USDA Forest Service will prepare an EIS on a proposal to amend the Forest's Land and Resource Management Plan (hereafter called Forest Plan) to incorporate standards and guidelines for surface management of natural gas resource development on the Jicarilla Ranger District. Additionally, the amendment would include the designation of five geographical areas as “Areas of Resource Concerns” that recognize the unique characteristics of each area and would provide area direction on how to manage these areas. The amendment would incorporate a decision on whether to offer for lease a specified 2,502 acres for which an Expression of Interest has been received, and if offered, with what stipulations. Finally, the proposal would determine if future unleashed acres would be offered for leasing and if leased, identify the appropriate surface protection stipulations to be added to the lease.

DATES: Submit comments on or before November 5, 2004.

The Draft EIS is expected to be filed with the Environmental Protection Agency (EPA) and to be available for public review during the winter of 2005. At that time, EPA will publish a Notice of Availability of the Draft EIS in the Federal Register. The comment period on the Draft EIS will be 45 days from the date the EPA publishes the Notice of Availability in the Federal Register. The Final EIS is scheduled to be completed in early summer of 2005.

ADDRESSES: Address all comments concerning this notice to the Carson National Forest, ATTN: Jicarilla Gas Development EIS, 208 Cruz Alta Road, Taos, NM 87571. E-mail comments may be sent to comments-southwestern-carson@fs.fed.us.

FOR FURTHER INFORMATION CONTACT: David Seesholtz, Forest Planner, Carson National Forest, at (505) 758-6210.

SUPPLEMENTARY INFORMATION: The information presented in this notice is included to help the reviewer determine if they are interested in or potentially affected by the proposed action.

Background

The Jicarilla Ranger District is located in the northwest portion of New Mexico within the San Juan Basin, about 50 miles east of Farmington. The district encompasses over 159,000 acres (including over 6,000 acres of private land) and was incorporated as a part of the Carson National Forest in 1910. During the 1940s and 1950s, exploration for oil and gas began in the San Juan Basin, and subsequently a highly successful natural gas industry developed. Today, natural gas production is the prevalent use on the Jicarilla Ranger District. Currently ninety-eight percent of the Jicarilla Ranger District is leased for mineral development.

Purpose and Need for Action

The mission of the Forest Service, and specifically the Carson National Forest, in relation to minerals management is two-fold: (1) Support, facilitate, and administer the orderly exploration, development, and production of minerals and energy resources on National Forest System Lands to help meet the present and future needs of the Nation; while, (2) Simultaneously protecting the environment and conserving the natural resource legacy (National Energy Policy, 3-1).

On the Jicarilla Ranger District this mission is accomplished in a variety of means depending upon the status of existing mineral rights and associated leases. The Reasonable Foreseeable Development Scenario for the San Juan Basin (Engler et al. 2001) projects the Forest could receive requests to drill almost 700 new wells on the Jicarilla Ranger District over the next 20 years. The most recent estimates provided by industry indicate a possibility of up to 800 new wells. This would result in an increase in well density and the potential to nearly double the number of well pads.

The Forest has identified issues and concerns where additional guidance is needed to protect surface resources during the development and production of fluid minerals.

There is a need to amend the forest plan to provide additional standard and guidelines for the protection of surface resources in regards to leasing and the orderly development of future oil and gas production.

The Forest has identified five geographical areas within the Jicarilla Ranger District that exhibit unique environmental characteristics and would need area-specific standards and guidelines to protect the mixture of resource values associated with each area.

There is a need to complete a leasing analysis that would identify stipulations and conditions that would be applied to all new leases, including those that are pending, currently unleased, and any existing leases that become available in the future for leasing.

There is a need to make a lease decision on 2,502 acres for which the Carson National Forest has received and expression of interest.

There is a need to complete a cumulative effects analysis that encompasses the existing and future development of oil & gas resources on the Jicarilla Ranger District.

Desired Condition

Since most of the Jicarilla Ranger District is currently leased, the desired condition for the Jicarilla Ranger District recognizes the leaseholders' existing rights to drill for, extract, remove and market gas products. With consideration of lease holder rights, the desired condition for the Jicarilla Ranger District is to (1) provide the access needed to reach gas resources and meet energy needs of the Nation, while (2) productivity of the land for other uses is sustained, (3) biodiversity is supported, (4) cultural resources are protected and preserved, (5) long-term health of the ecosystem is maintained and, (6) minimizing negative impacts to the quality of experience for Forest users, due to oil and gas development. Specifically, the Forest wants to reduce the impact from the development of oil and gas operations, as much as possible, on surface resources.

Proposed Action

The Forest Service proposes to amend the Forest Plan to provide additional guidance for oil & gas development on the Jicarilla Ranger District.

(A) On existing leases these guidelines would be applied, as applicable, through Conditions of Approval of the Surface Use Plan of Operations.

(B) For new leases these guidelines would be applied through stipulations attached to the new lease and through Conditions of Approval.

(C) The Proposed Action would encourage the use of unconventional drilling techniques, such as directional drilling, co-location, and twining, to reduce the impact to surface resources.

(D) The Proposed Action would recognize Bancos Canyon, La Jara Canyon, Valencia Canyon, Vaqueros Canyon, and Fierro Canyon and Mesa as Areas of Resource Concern. In these areas the feasibility of unconventional drilling techniques would be required as part of the common plan of development.

A detailed description of the Proposed action can be accessed via the Internet at www.fs.fed.us/r3/carson/.

Scoping Process

Scoping is a process that identifies the significant issues to be analyzed in depth in the environmental impact statement. Public meetings were held during the formulation of the original Draft EIS. The results from the previous public involvement have helped define the new proposed action and purpose & need. No additional formal meetings are scheduled at this time. The Forest is willing to host a public meeting or a field tour if interest is expressed.

Preliminary Issues and Alternatives

The Forest Service has developed the proposed action to meet the purpose and need for action with the best information available—it is not a decision. This proposal is intended to facilitate public involvement in identifying pertinent issues, developing meaningful alternatives, and analyzing relevant effects.

Lead and Cooperating Agencies

USDA Forest Service, Carson National Forest will serve as the lead agency for this analysis. USDI Bureau of Land Management, Farmington Field Office will be considered a cooperating agency on the analysis.

Responsible Official

The Forest Supervisor, Carson National Forest, is the Responsible Official.

Nature of Decision To Be Made

The Forest Supervisor, as Responsible Official, may decide to: (1) Select the proposed action, (2) select one of the alternatives, (3) select one of the alternatives after modifying the alternative with additional mitigating measures or combinations of activities from other alternatives, or (4) select the no action alternative and take no action at this time.

Comment Requested

The Forest Service would like to know of any issues, concerns, and suggestions you may have about this proposal. Comments should be as fully formed as possible to assist us in the analysis. If you have any questions, or if something is unclear, contact David Seesholtz at 505.758.6210 before submitting your comments.

Although comments are welcome at any time, they will be most effective if received by November 5, 2004. Send comments to: Carson National Forest, ATTN: Jicarilla Gas Development EIS, 208 Cruz Alta Road, Taos, NM 87571.

Alternately, e-mail your comments to comments-southwestern-carson@fs.fed.us.

Reviewer's Obligation: Comments received in response to this solicitation, including names and address of those who comment, will be considered part of the public record on this proposed action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within seven days.

The Forest Service believes, at this early stage, it is important to give reviewers notice of several court rulings related to public participation in the environmental review process. First, reviewers of draft environmental impact statements must structure their participation in the environmental review of the proposal so that it is meaningful and alerts the gancy to the reviewer's position and contentions. Vermont Yankee Nuclear Power Corp. v. NRDC, 435 U.S. 519, 533 (1978). Also, environmental objections that could be raised at the draft environmental impact stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wisc. 1980). Because of these court rulings, it is very important that those interested in this proposed action participate by the close of the comment period so that substantive comments and objections are made available to the Forest Service at the time when it can meaningfully consider them and respond to them in the final environmental impact statement.

Authorization: National Environmental Policy Act of 1969 as amended (42 U.S.C. 4321-4346); Council on Environmental Quality Regulations (40 CFR parts 1500-1508); U.S. Department of Agriculture NEPA Policies and Procedures (7 CFR part 1b).

Dated: September 29, 2004.
Martin D. Chavez,
Forest Supervisor, Carson National Forest.

[FR Doc. 04-22442 Filed 10-5-04; 8:45 am]

BILLING CODE 3410-11-M